DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the Senior Review Group Meeting. The purpose of the meeting is to allow the SAB leadership to review the progress of the SAB's ongoing study efforts. Because classified and contractor-proprietary information will be discussed, this meeting will be closed to the public.

DATES: April 14, 2004.

ADDRESSES: Langley AFB, VA.

FOR FURTHER INFORMATION CONTACT: Lt. Col. Mark Nowack, Air Force Scientific Advisory Board Secretariat, 1180 Air Force Pentagon, Rm. 5D982, Washington, DC 20330-1180, (703) 697-4811.

Pamela D. Fitzgerald,
Air Force Federal Register Liaison Officer.

[FR Doc. 04-7419 Filed 4-1-04; 8:45 am]

BILLING CODE 5001-05-P